ENVIRONMENTAL PROTECTION AGENCY

[FRL-8510-2]

Meeting of the Total Coliform Rule Distribution System Advisory Committee—Notice of Public Meeting

AGENCY: Environmental Protection Agency (EPA).

ACTION: Notice.

SUMMARY: Under Section 10(a)(2) of the Federal Advisory Committee Act, the United States Environmental Protection Agency (EPA) is giving notice of a meeting of the Total Coliform Rule Distribution System Advisory Committee (TCRDSAC). The purpose of this meeting is to discuss the Total Coliform Rule (TCR) revision and information about distribution systems issues that may impact water quality.

The TCRDSAC advises and makes recommendations to the Agency on revisions to the TCR, and on what information should be collected, research conducted, and/or risk management strategies evaluated to better inform distribution system contaminant occurrence and associated public health risks.

Topics to be discussed in the meeting include the research and information collection needs regarding how distribution system issues impact water quality and continued evaluation of TCR approaches. The discussion on distribution system issues includes topics such as: Potential health effects and exposure; contamination events; viability of potential risk mitigation; and link to infrastructure deterioration.

DATES: The public meeting will be held on Wednesday, January 16, 2008 (8:30 a.m. to 6 p.m., Eastern Time (ET)) and Thursday, January 17, 2008 (8 a.m. to 3 p.m., ET). Attendees should register for the meeting by calling Kate Zimmer at (202) 965-6387 or by e-mail to kzimmer@resolv.org no later than January 14, 2008.

ADDRESSES: The meeting will be held at RESOLVE, 1255 Twenty-Third St., NW., Suite 275, Washington DC 20037.

FOR FURTHER INFORMATION CONTACT: For general information, contact Kate Zimmer of RESOLVE at (202) 965-6387. For technical inquiries, contact Ken Rotert (rotert.kenneth@epa.gov, (202) 564-5280), Standards and Risk Management Division, Office of Ground Water and Drinking Water (MC 4607M), Environmental Protection Agency, 1200 Pennsylvania Ave., NW., Washington, DC 20460; FAX number: (202) 564-3767.

SUPPLEMENTARY INFORMATION: The meeting is open to the public. The Committee encourages the public's input and will take public comment starting at 5:30 p.m. on January 16, 2008, for this purpose. It is preferred that only one person present the statement on behalf of a group or organization. To ensure adequate time for public involvement, individuals interested in presenting an oral statement may notify Crystal Rodgers-Jenkins, the Designated Federal Officer, by telephone at 202-564-5275, no later than January 14, 2008. Any person who wishes to file a written statement can do so before or after a Committee meeting. Written statements received by January 14, 2008, will be distributed to all members before any final discussion or vote is completed. Any statements received on January 15, 2008, or after the meeting will become part of the permanent meeting file and will be forwarded to the members for their information.

Special Accommodations

For information on access or accommodations for individuals with disabilities, please contact Crystal Rodgers-Jenkins at 202-564-5275 or by e-mail at rodgers-jenkins.crystal@epa.gov. Please allow at least 10 days prior to the meeting to give EPA as much time to process your request.

Dated: December 18, 2007.
Cynthia C. Dougherty,
Director, Office of Ground Water and Drinking Water.

[FR Doc. E7-24858 Filed 12-20-07; 8:45 am]

BILLING CODE 6560-50-P